DEPARTMENT OF AGRICULTURE

Foreign Agricultural Service

Trade Adjustment Assistance for Farmers

AGENCY: Foreign Agricultural Service, USDA.

ACTION: Notice.

The Administrator, Foreign Agricultural Service (FAS), today accepted a petition filed by the California Avocado Commission representing California avocado producers for trade adjustment assistance. The Administrator will determine within 40 days whether or not increasing imports of avocados contributed importantly to a decline in domestic producer prices of 20 percent or more during the marketing period beginning November 1, 2005, and ending October 31, 2006. If the determination is positive, all producers who produce and market their avocados in California will be eligible to apply to the Farm Service Agency for no cost technical assistance and for adjustment assistance payments.

FOR FURTHER INFORMATION CONTACT: Jean-Louis Pajot, Coordinator, Trade Adjustment Assistance for Farmers, FAS, USDA, (202) 720-2916, e-mail: trade.adjustment@fas.usda.gov.

Dated: January 26, 2007.
Michael W. Yost,
Administrator, Foreign Agricultural Service.

[FR Doc. E7-2627 Filed 2-14-07; 8:45 am]

BILLING CODE 3410-10-P